DEPARTMENT OF LABOR

Employment and Training Administration

[TA-W-50,386]

Burelbach Industries, Incorporated, Rickreal, OR; Notice of Negative Determination Regarding Application for Reconsideration

By application of February 10, 2003, a petitioner requested administrative reconsideration of the Department's negative determination regarding eligibility to apply for Trade Adjustment Assistance (TAA), applicable to workers and former workers of the subject firm. The denial notice was signed on January 13, 2003, and published in the Federal Register on February 6, 2003 (68 FR 6211).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Burelbach Industries, Inc., Rickreal, Oregon was denied because the “upstream supplier” group eligibility requirement of section 222(b) of the Trade Act of 1974, as amended, was not met. The “upstream supplier” requirement is fulfilled when the workers' firm (or subdivision) is a supplier to a firm that employed a group of workers who received a certification of eligibility to apply for trade adjustment assistance benefits and such supply or production is related to the article that was the basis for such certification. The workers of Burelbach Industries, Inc., Rickreal, Oregon did not act as an upstream supplier to a trade certified firm.

The petitioner appears to allege that he is applying for trade adjustment assistance on behalf of workers that are import impacted on primary and secondary grounds.

When addressing the issue of import impact, the Department considers imports of products “like or directly competitive” in the case of primary impacted firms, or whether the subject firm supplied a component in a product produced by a trade certified firm in the case of secondary impact. As neither the subject firm nor its major declining customers reported imports like or directly competitive with the sawmill equipment produced at the subject firm, primary import impact did not occur. As the subject firm did not produce a component used in the products of their customers, the allegation of secondary import impact is equally invalid.

The petitioner notes that several of the subject firm's customers have been certified for trade adjustment assistance due to import impact and thus appears to imply that the petitioning workers should be eligible for TAA.

As already noted, the declining customers of the subject firm do not import products like or directly competitive with those produced at the subject firm. Further, the subject firm produces sawmill equipment that is used to process timber, but as the equipment does not form a component part of the products produced at the customer firms, subject firm workers do not constitute upstream suppliers of trade certified firms.

The petitioner provides a list of other trade certified firms, claiming that these firms produced the same type of products as the subject firm, and thus appears to allege that the petitioning workers in this case should also be certified.

None of the three firms listed by the petitioner produce products like or directly competitive with the sawmill machinery produced by the subject firm. Of the trade certified firms listed, two were certified on the basis of increased company imports of products like or directly competitive with those produced at the subject firms. In the case of the other firm, workers were certified on the basis of increased customer imports of products like or directly competitive with those produced at the subject firm. In contrast to the trade certified firms described above, neither Burlebach Industries nor its customers reported imports of competitive sawmill machinery.

Conclusion

After review of the application and investigative findings, I conclude that there has been no error or misinterpretation of the law or of the facts which would justify reconsideration of the Department of Labor's prior decision. Accordingly, the application is denied.

Signed in Washington, DC, this 25th day of March, 2003.
Edward A. Tomchick,
Director, Division of Trade Adjustment Assistance.

[FR Doc. 03-8356 Filed 4-4-03; 8:45 am]

BILLING CODE 4510-30-P